ENVIRONMENTAL PROTECTION AGENCY

[FRL-8304-4]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 0278.09; Notice of Supplemental Distribution of a Registered Pesticide Product; in 40 CFR 152.132; was approved 03/27/2007; OMB Number 2070-0044; expires 03/31/2010.

EPA ICR No. 1739.05; NESHAP for the Printing and Publishing Industry (Renewal); in 40 CFR part 63, subpart KK; was approved 03/19/2007; OMB Number 2060-0335; expires 03/31/2010.

EPA ICR No. 2098.03; NESHAP for Primary Magnesium Refining (Renewal); in 40 CFR part 63, subpart TTTTT; was approved 03/12/2007; OMB Number 2060-0536; expires 03/31/2010.

Short Term Extensions

EPA ICR No. 1713.05; Federal Operating Permit Regulations (Renewal); in 40 CFR part 71; OMB Number 2060-0336; on 03/13/2007 OMB extended the expiration date through 06/30/2007.

EPA ICR No. 1587.06; State Operating Permits Regulations (Renewal); in 40 CFR part 70; OMB Number 2060-0243; on 03/13/2007 OMB extended the expiration date through 06/30/2007.

EPA ICR No. 1698.06; Reporting and Recordkeeping Requirements Under EPA's Waste Wise Program (Renewal); OMB Number 2050-0139; on 04/11/2007 OMB extended the expiration through 07/31/2007.

Comment Filed

EPA ICR No. 1899.04; NSPS for Hospital/Medical/Infectious Waste Incinerators (Proposed Rule); in 40 CFR part 60, subpart Ce; OMB Number 2060-0422; OMB filed comment on 04/10/2007.

Dated: April 12, 2007.
Robert Gunter,
Acting Director, Collection Strategies Division.

[FR Doc. E7-7773 Filed 4-23-07; 8:45 am]

BILLING CODE 6560-50-P